DEPARTMENT OF VETERANS AFFAIRS

Allowance for Private Purchase of an Outer Burial Receptacle (or Grave Liner) in Lieu of a Government-Furnished Grave Liner for Use in a VA National Cemetery

AGENCY: Department of Veterans Affairs.

ACTION: Notice.

SUMMARY: The Department of Veterans Affairs (VA) is updating the monetary allowance payable for qualifying interments that occur during calendar year 2016, which applies toward the private purchase of an outer burial receptacle (or “grave liner”) for use in a VA national cemetery. The allowance is equal to the average cost of Government-furnished grave liners less any administrative costs to VA. The purpose of this Notice is to notify interested parties of the average cost of Government-furnished grave liners, administrative costs that relate to processing and paying the allowance, and the amount of the allowance payable for qualifying interments that occur during calendar year 2016.

FOR FURTHER INFORMATION CONTACT: Tamula Jones, Budget Operations and Field Support Division, National Cemetery Administration, Department of Veterans Affairs, 810 Vermont Avenue NW., Washington, DC 20420. Telephone: 202-461-6688 (this is not a toll-free number).

SUPPLEMENTARY INFORMATION: Section 2306(e)(3) and (4) of title 38, United States Code authorizes VA to provide a monetary allowance for the private purchase of an outer burial receptacle for use in a VA national cemetery where its use is authorized. The allowance for qualified interments that occur during calendar year 2016 is the average cost of Government-furnished grave liners in fiscal year 2015, less the administrative costs incurred by VA in calendar year 2015 in processing and paying the allowance in lieu of the Government-furnished grave liner.

The average cost of Government-furnished grave liners is determined by taking VA's total cost during a fiscal year for single-depth grave liners that were procured for placement at the time of interment and dividing it by the total number of such grave liners procured by VA during that fiscal year. The calculation excludes both grave liners procured and pre-placed in gravesites as part of cemetery gravesite development projects and all double-depth grave liners. Using this method of computation, the average cost was determined to be $331.00 for fiscal year 2015.

The administrative costs incurred by VA consist of those costs that relate to processing and paying an allowance in lieu of providing the Government-furnished grave liner. These costs have been determined to be $9.00 for calendar year 2016 allowances.

The allowance payable for qualifying interments occurring during calendar year 2016, therefore, is $322.00.

Dated: December 16, 2015.
William F. Russo,
Director, Office of Regulation Policy & Management, Office of the General Counsel, Department of Veterans Affairs.

[FR Doc. 2015-32006 Filed 12-21-15; 8:45 am]

BILLING CODE 8320-01-P